DEPARTMENT OF COMMERCE

International Trade Administration

[A-475-822]

Preliminary Results of Antidumping Administrative Review: Stainless Steel Plate in Coils from Italy

AGENCY: Import Administration, International Trade Administration, U.S. Department of Commerce.

ACTION: Notice of Preliminary Results in the Antidumping Duty Administrative Review of Stainless Steel Plate in Coils from Italy.

SUMMARY: In response to a request from ThyssenKrupp Acciai Speciali Terni S.p.A (“TKAST”) and ThyssenKrupp AST USA, Inc.(“TKASTUSA”), the U.S. Department of Commerce (“Department”) is conducting an administrative review of the antidumping duty order on stainless steel plate in coils (“SSPC”) from Italy for the period May 1, 2000, through April 30, 2001. The Department preliminarily determines that no dumping margin exists for TKAST's sales of SSPC in the United States. If these preliminary results are adopted in our final results of this administrative review, we will instruct the U.S. Customs Service not to assess antidumping duties on entries of TKAST's merchandise during the period of review (“POR”). The preliminary results are listed in the section titled “Preliminary Results of Review,” infra.

EFFECTIVE DATE: June 10, 2002.

FOR FURTHER INFORMATION CONTACT: Stephen Bailey or Robert Bolling, Enforcement Group III, Import Administration, International Trade Administration, U.S. Department of Commerce, 1401 Constitution Avenue, NW., Washington, DC 20230; telephone: 202-482-1102, or 202-482-3434, respectively.

Applicable Statute and Regulations

Unless otherwise indicated, all citations to the Tariff Act of 1930, as amended (“Act”), are references to the provisions effective January 1, 1995, the effective date of the amendments made to the Act by the Uruguay Round Agreements Act (“URAA”). In addition, unless otherwise indicated, all citations to the Department's regulations are to the regulations codified at 19 CFR Part 351 (2001).

SUPPLEMENTARY INFORMATION:

Background

On May 21, 1999, the Department published in the Federal Register the antidumping duty order on SSPC from Italy. See Antidumping Duty Orders; Certain Stainless Steel Plate in Coils from Belgium, Canada, Italy, the Republic of Korea, South Africa, and Taiwan, 64 FR 27756 (May 21, 1999). On May 1, 2001, the Department published in the Federal Register a notice of “Opportunity to Request Administrative Review” of this antidumping duty order on SSPC from Italy for the period May 1, 2000, through April 30, 2001. See Antidumping or Countervailing Duty Order, Finding, or Suspended Investigation; Opportunity to Request Administrative Review 66 FR 21740 (May 1, 2001). On May 31, 2001, TKAST, an Italian producer and exporter of the subject merchandise, and TKASTUSA, TKAST's affiliated United States re-seller, requested that the Department conduct a review of its sales of the Department's antidumping duty order on SSPC from Italy. On June 19, 2001, in accordance with section 751(a) of the Act, the Department published in the Federal Register a notice of initiation of this antidumping duty administrative review for the period May 1, 2000 through April 30, 2001. See Initiation of Antidumping and Countervailing Duty Administrative Reviews and Requests for Revocation in Part, 66 FR 32934 (June 19, 2001).

On July 11, 2001, the Department issued its antidumping duty questionnaire to TKAST. On August 8, 2001, TKAST reported that it made sales of subject merchandise to the United States during the POR in its response to section A of the Department's questionnaire. On August 27, 2001, TKAST submitted its responses to sections B, C, and D of the Department's questionnaire.

On September 17, 2001, petitioners requested that the Department initiate a sale below cost of production (“COP”) investigation with respect to home market sales of SSPC made by TKAST and its affiliates. On October 22, 2001, the Department initiated a sales-below-cost investigation and issued a section D questionnaire to TKAST. See letter from the Department to TKAST, dated October 22, 2001 and Memorandum to the File from Stephen Shin to Edward Yang: Administrative Review of Antidumping Duty Order on Stainless Steel Plate and Coil from Italy: Analysis of Petitioners' Allegation of Sales Below the Cost of Production for Acciai Speciali Terni S.p.A., dated October 22, 2001 (“Below Cost Memo”).

On October 30, 2001, the Department issued a supplemental questionnaire for section A of TKAST's questionnaire response. On November 23, 2001, TKAST submitted its response to the Department's section D questionnaire. On November 26, 2001, the Department issued a supplemental questionnaire for sections B & C of TKAST's questionnaire response. On November 30 , 2001, TKAST submitted its response to the Department's section A supplemental questionnaire. On December 3, 2001, the Department published an extension of time limit for the preliminary results of the antidumping duty administrative review until April 2, 2002. See Notice of Extension of the Time Limit for Preliminary Results of Antidumping Duty Administrative Review: Stainless Steel Plate in Coils from Italy, 66 FR 60196 (December 3, 2001). On December 21, 2001, TKAST submitted its response to the Department's sections B & C supplemental questionnaire. On February 15, 2002, the Department issued a supplemental questionnaire for section D of TKAST's questionnaire response. On March 5, 2002, the Department published an extension of time limit for the preliminary results of the antidumping duty administrative review until May 31, 2002. See Notice of Extension of Time Limits for the Preliminary Results of Antidumping Duty Administrative Review: Stainless Steel Plate in Coils from Italy, 67 FR 9960 (March 5, 2002). On March 8, 2001, TKAST submitted its response to the Department's section D supplemental questionnaire. On March 14, 2002, the Department issued its second supplemental questionnaire for sections A through C of TKAST's supplemental response. On March 21, 2002, the Department issued its second supplemental questionnaire for section D of TKAST's supplemental response. On April 3, 2002, TKAST submitted its response to the Department's second sections A-D supplemental questionnaires.

Scope of Review

For purposes of this administrative review, the product covered is certain stainless steel plate in coils. Stainless steel is an alloy steel containing, by weight, 1.2 percent or less of carbon and 10.5 percent or more of chromium, with or without other elements. The subject plate products are flat-rolled products, 254 mm or over in width and 4.75 mm or more in thickness, in coils, and annealed or otherwise heat treated and pickled or otherwise descaled. The subject plate may also be further processed (e.g., cold-rolled, polished, etc.) provided that it maintains the specified dimensions of plate following such processing. Excluded from the scope of this petition are the following: (1) Plate not in coils, (2) plate that is not annealed or otherwise heat treated and pickled or otherwise descaled, (3) sheet and strip, and (4) flat bars. In addition, certain cold-rolled stainless steel plate in coils is also excluded from the scope of these orders. The excluded cold-rolled stainless steel plate in coils is defined as that merchandise which meets the physical characteristics described above that has undergone a cold-reduction process that reduced the thickness of the steel by 25 percent or more, and has been annealed and pickled after this cold reduction process.

The merchandise subject to this review is currently classifiable in the Harmonized Tariff Schedule of the United States (HTS) at subheadings: 7219110030, 7219110060, 7219120005, 7219120020, 7219120025, 7219120050, 7219120055, 7219120065, 7219120070, 7219120080, 7219310010, 7219900010, 7219900020, 7219900025, 7219900060, 7219900080, 7220110000, 7220201010, 7220201015, 7220201060, 7220201080, 7220206005, 7220206010, 7220206015, 7220206060, 7220206080, 7220900010, 7220900015, 7220900060, and 7220900080. Although the HTS subheadings are provided for convenience and Customs purposes, the written description of the merchandise under investigation is dispositive.

Verification

As provided in section 782(i) of the Act, we verified the information submitted by TKAST for use in our preliminary results. We used standard verification procedures, including examination of relevant accounting and production records and original source documents provided by TKAST. We verified sales and cost information provided by TKAST from April 10, 2002 to April 19, 2002. Our verification results are outlined in the public version of the verification report and are on file in the Central Records Unit (“CRU”) located in room B-099 of the main Department of Commerce Building, 14th Street and Constitution Avenue, NW., Washington, D.C.

Product Comparison

In accordance with section 771(16) of the Act, we considered all SSPC products produced by TKAST, covered by the description in the “Scope of Review” section of this notice, supra, and sold in the home market during the POR to be foreign like products for the purpose of determining appropriate product comparisons to SSPC products sold in the United States. We have relied on seven characteristics to match U.S. sales of subject merchandise to comparison sales of the foreign like product (listed in order of preference): grade, hot/cold rolled, width, gauge, finish, edge trim, and patterns in relief. Where there were no sales of identical merchandise in the home market to compare to U.S. sales, we compared U.S. sales to the next most similar foreign like product on the basis of the characteristics listed in the July 11, 2001, antidumping duty questionnaire and instructions, or to constructed value (“CV”), as appropriate.

Constructed Export Price

We calculated CEP in accordance with section 772(b) of the Act because the first sales to an unaffiliated purchaser took place after the subject merchandise was imported into the United States.

We based CEP on the packed ex-warehouse or delivered prices to unaffiliated purchasers in the United States. Where appropriate, we made a deduction from the starting price for credit and added an amount for an alloy surcharge. We also made deductions for the following movement expenses, where appropriate, in accordance with section 772(c)(2)(A) of the Act: international freight (includes foreign transportation from plant to port, foreign insurance; shipment from port to the United States, and marine insurance); U.S. inland freight from port to the unaffiliated customer (includes U.S. insurance); other U.S. transportation expenses (includes brokerage, wharfage and trucking), and U.S. Customs duties. In accordance with section 772(d)(1) of the Act, we deducted selling expenses associated with economic activities occurring in the United States, including direct selling expenses, inventory carrying costs, and other indirect selling expenses. We recalculated inventory carrying costs because TKAST revised its interest rate for credit, but failed to revise inventory carrying cost using the new interest rate. See Memorandum from Stephen Bailey to the File: Analysis for ThyssenKrupp Acciai Speciali Terni S.p.A (“TKAST”) for the preliminary results of the administrative review stainless steel plate in coils from Italy for the period May 1, 2000 through April 30, 2001, (“Analysis Memo”) dated May 31, 2002 and Second Administrative Review of Stainless Steel Plate in Coils from Italy - Sales and Cost Verification Report for ThyssenKrupp Acciai Speciali Terni S.p.A., dated May 13, 2002 (“Verification Report”).

We deducted the profit allocated to expenses deducted under section 772(d)(1) and (d)(2) in accordance with sections 772(d)(3) and 772(f) of the Act. In accordance with section 772(f) of the Act, we computed profit based on total revenues realized on sales in both the U.S. and home markets, less all expenses associated with those sales. We then allocated profit to expenses incurred with respect to U.S. economic activity, based on the ratio of total U.S. expenses to total expenses for both the U.S. and home market.

Normal Value

After testing home market viability, as discussed below, we calculated normal value (“NV”) as noted in the “Price-to-CV Comparisons” and “Price-to-Price Comparisons” sections of this notice.

1.Home Market Viability

In accordance with section 773(a)(1)(C) of the Act, to determine whether there was sufficient volume of sales in the home market to serve as a viable basis for calculating NV (i.e., the aggregate volume of home market sales of the foreign like product is greater than or equal to five percent of the aggregate volume of U.S. sales), we compared TKAST's volume of home market sales of the foreign like product to the volume of U.S. sales of the subject merchandise. Because TKAST's aggregate volume of home market sales of the foreign like product was greater than five percent of its aggregate volume of U.S. sales for the subject merchandise, we determined that the home market was viable. We therefore based NV on home market sales in the usual commercial quantities and in the ordinary course of trade.

Price-to-Price Comparisons

For those product comparisons for which there were sales at prices above the cost of production (“COP”), we based NV on prices to home market customers. We calculated NV based on prices to affiliated and unaffiliated home market customers. Where appropriate, we deducted rebates, credit expenses, warranty expenses, inland freight, and inland insurance in accordance with 773(a)(6)(B). We also adjusted the starting price for billing adjustments and an alloy surcharge. We recalculated a payment date for a particular home market sale because at verification we found that the actual payment date was one day later than the payment date which was reported to the Department. See Analysis Memo and Verification Report.

We made adjustments, where appropriate, for physical differences in the merchandise in accordance with section 773(a)(6)(C)(ii) of the Act. Additionally, in accordance with section 773(a)(6)(A) and (B), we deducted home market packing costs and added U.S. packing costs. In accordance with the Department's practice, where all contemporaneous matches to a U.S. sale observation resulted in difference-in-merchandise adjustments exceeding 20 percent of the cost of manufacturing (“COM”) of the U.S. product, we based NV on CV.

Arm's-Length Sales

TKAST reported that it made sales in the home market to affiliated and unaffiliated end users and distributors/retailers. Sales to affiliated customers in the home market not made at arm's length were excluded from our analysis. To test whether these sales were made at arm's length, we compared the starting prices of sales to affiliated and unaffiliated customers net of all billing adjustments, movement charges, direct selling expenses, discounts and packing, but included the alloy surcharge. Where prices to the affiliated party were on average 99.5 percent or more of the price to the unrelated party, we determined that sales made to the related party were at arm's length. See 19 CFR 351.403(c). Where no affiliated customer ratio could be calculated because identical merchandise was not sold to unaffiliated customers, we were unable to determine that these sales were made at arm's length and, therefore, excluded them from our analysis. See, e.g., Final Determination of Sales at Less Than Fair Value: Certain Cold-Rolled Carbon Steel Flat Products from Argentina, 58 FR 37062, 37077 (July 9, 1993). Where the exclusion of such sales eliminated all sales of the most appropriate comparison product, we made comparisons to the next most similar model. In our home market NV calculation, we have included TKAST's sales to its affiliated resellers, because all affiliated resellers passed the Department's arm's length test criteria. Therefore, we have not included downstream sales from TKAST's affiliated resellers to their customers.

Price-to-CV Comparisons

In accordance with section 773(a)(4) of the Act, we based NV on CV if we were unable to find a home market match of identical or similar merchandise. We calculated CV based on the costs of materials and fabrication employed in producing the subject merchandise, selling, general and administrative expenses (“SG&A”), and profit. In accordance with section 773(e)(2)(A) of the Act, we based SG&A expense and profit on the amounts incurred and realized by the respondent in connection with the production and sale of the foreign like product in the ordinary course of trade for consumption in Italy. For selling expenses, we used the weighted-average home market selling expenses. Where appropriate, we made adjustments to CV in accordance with section 773(a)(8) of the Act. Where we compared CV to CEP, we deducted from CV the weighted-average home market direct selling expenses.

2. Cost of Production Analysis

Based on the information contained in a timely filed cost allegation by the petitioners on September 17, 2001, the Department found reasonable grounds to believe or suspect that TKAST made sales in the home market at prices below the cost of producing the merchandise in this review, pursuant to section 773(b)(1) of the Act. As a result, the Department initiated a cost of production inquiry in this case to determine whether TKAST made home market sales during the POR at prices below their respective COPs within the meaning of section 773(b) of the Act. See Below Cost Memo.

A. Calculation of COP

In accordance with section 773(b)(3) of the Act, we calculated a weighted-average COP based on the sum of TKAST's cost of materials and fabrication for the foreign like product, plus amounts for general and administrative expenses (“G&A”), including interest expenses, and packing costs. We relied on the COP data submitted by TKAST in its original and supplemental cost questionnaire responses. For these preliminary results, we revised the following: (1) TKAST's general and administrative (“G&A”) rate because TKAST failed to calculate its G&A rate as a percentage of the cost of sales as presented in its audited financial statements; (2) TKAST's interest expense ratio because TKAST applied its interest expense ratio to the per-unit variable cost (VCOM) of each model, rather than the per-unit total cost of production (TOTCOM); and (3) TKAST's cost of manufacturing to include expenses for technical services because TKAST classified the expenses incurred at cost centers dedicated to creating mill certificates, quality control and mechanical laboratory testing for stainless steel as technical services rather than as costs dedicated to producing the subject merchandise. See Analysis Memo and Verification Report.

B. Test of Home Market Prices

On a product-specific basis, we compared the weighted-average COP for TKAST to home market sales of the foreign like product, as required under section 773(b) of the Act, in order to determine whether these sales had been made at prices below the COP. In determining whether to disregard home market sales made at prices below the COP, we examined whether such sales were made (1) within an extended period of time in substantial quantities, and (2) at prices which permitted the recovery of all costs within a reasonable period of time in accordance with section 773(b)(1)(A) and (B) of the Act. We compared the COP to home market prices, less any applicable billing adjustments, movement charges, discounts, and direct and indirect selling expenses.

C. Results of the COP Test

Pursuant to section 773(b)(2)(C) of the Act, where less than 20 percent of TKAST's sales of a given product were at prices below the COP, we did not disregard any below-cost sales of that product because we determined that the below-cost sales were not made in “substantial quantities.” Where 20 percent or more of TKAST's sales of a given product during the POR were at prices below the COP, we determined that such sales have been made in “substantial quantities” pursuant to section 773(b)(2)(C)(i) within an extended period of time, in accordance with section 773(b)(2)(B) of the Act. In such cases, because we use POR average costs, we also determined that such sales were not made at prices which would permit recovery of all costs within a reasonable period of time, in accordance with section 773(b)(2)(D) of the Act. Therefore, we disregarded the below-cost sales. For those sales of subject merchandise for which there were no comparable home market sales in the ordinary course of trade, we compared CEP to CV in accordance with section 773(a)(4) of the Act.

D. Calculation of Constructed Value

In accordance with section 773(e)(1) of the Act, we calculated CV based on the sum of TKAST's cost of materials, fabrication, general and administrative (“G&A”) (including interest expenses), U.S. packing costs, direct and indirect selling expenses, and profit. In accordance with section 773(e)(2)(A) of the Act, we based selling, general and adminstrative (“SG&A”) and profit on the amounts incurred and realized by TKAST in connection with the production and sale of the foreign like product in the ordinary course of trade, for consumption in the foreign country. For selling expenses, we used the actual weighted-average home market direct and indirect selling expenses. For CV, we made the same adjustments described in the COP section above.

Level of Trade

In accordance with section 773(a)(1)(B) of the Act, to the extent practicable, we determine NV based on sales in the comparison market at the same level of trade (LOT) as the EP or CEP transaction. The NV LOT is that of the starting-price sales in the comparison market, or when NV is based on CV, that of the sales from which we derive SG&A expenses and profit. For EP, the U.S. LOT is also the level of the starting-price sale, which is usually from exporter to importer. For CEP, it is the level of the constructed sale from the exporter to the importer.

To determine whether NV sales are at a different LOT than EP or CEP, we examine stages in the marketing process and selling functions along the chain of distribution between the producer and the unaffiliated customer. If the comparison market sales are at a different LOT, and the difference affects price comparability, as manifested in a pattern of consistent price differences between the sales on which NV is based and comparison market sales at the LOT of the export transaction, we make an LOT adjustment under section 773(a)(7)(A) of the Act. Finally, for CEP sales, if the NV level is more remote from the factory than the CEP level and there is no basis for determining whether the difference in levels between NV and CEP affects price comparability, we adjust NV under section 773(a)(7)(B) of the Act (the CEP offset provision). See, e.g., Notice of Final Determination of Sales at Less Than Fair Value: Certain Cut-to-Length Carbon Steel Plate from South Africa, 62 FR 61731, 61732 (November 19, 1997).

In implementing these principles in this review, we obtained information from TKAST about the marketing stages involved in its reported U.S. and home market sales, including a description of the selling activities performed by TKAST for each channel of distribution. In identifying levels of trade for CEP and home market sales, we considered only the selling activities reflected in the price after the deduction of expenses and profit under section 772(d) of the Act. See Micron Technology, Inc. v. United States, 243 F.3d 1301, 1314-1315 (Fed. Cir. 2001). Generally, if the reported levels of trade are the same in the home and U.S. markets, the functions and activities of the seller should be similar. Conversely, if a party reports levels of trade that are different for different categories of sales, the functions and activities may be dissimilar.

In the home market, TKAST reported one level of trade. TKAST sold through two channels of distribution in the home market: (1) directly from its mill to affiliated and unaffiliated distributors/retailers or end users; and (2) from inventory to affiliated and unaffiliated distributors/retailers or end users. For sales in home market channel one, TKAST performed sales-related activities, including pre-sale and continuous technical assistance; sample analysis; price negotiation and customer communication; processing of customer order; arranging for freight and delivery; sales calls and visits; credit and collection; and warranty services. The same selling functions were performed in home market channel two; however, unlike direct factory sales, these sales carry no guarantee or warranty. Also, TKAST, rather than the customer, typically initiates sales of products through channel two by distributing a list of available products to potential customers. Despite these variations, we find that the selling activities in the two channels of distribution are similar. Because these selling functions are similar for both sales channels, except for the initiation of the sale, we preliminarily determine that home market sales in the two channels of distribution constitute a single level of trade.

We reviewed the selling functions and services performed by TKAST in the U.S. market, as represented by TKAST in its section A response. TKAST reported one LOT for sales to the U.S. TKAST sold through one channel of distribution in the U.S. market: (1) directly from its mill through TKASTUSA to unaffiliated distributors/service centers. TKAST indicated that the selling functions performed by TKAST for CEP sales for its U.S. back-to-back sales are the same functions described above for home market channel one (i.e., pre-sale and continuous technical assistance; sample analysis; price negotiation and customer communication, etc). In addition, TKAST reported that TKASTUSA performed selling functions for its back-to-back sales from TKASTUSA to unaffiliated U.S. customers which include the following: processing inquiries and purchase orders; price negotiation; freight and delivery arrangements from TKAST's plant to the U.S. port (including the cost of transporting the goods to the European port, port handling, and ocean freight); sales calls and visits; invoicing; and extending credit. We preliminarily find that the selling functions in the U.S. through TKAST's single channel of distribution represent one level of trade.

In order to determine whether NV was established at a different LOT than CEP sales, we examined stages in the marketing process and selling functions along the chains of distribution between TKAST and its home market customers. We compared the selling functions performed for home market sales with those performed with respect to the CEP transaction, after deductions for economic activities occurring in the United States, pursuant to section 772(d) of the Act, to determine if the home market levels of trade constituted more advanced stages of distribution than the CEP level of trade. Based on our analysis of the selling functions performed for sales in the HM and CEP sales in the U.S. market described above, we preliminarily determine that there is not a significant difference in the selling functions performed in the home market and U.S. market and that these sales are made at the same LOT. Because we found that no difference in the level of trade exists between the home market and U.S. market, we have not granted a CEP offset to TKAST.

Currency Conversion

For purposes of the preliminary results, we made currency conversions into U.S. dollars based on the exchange rates in effect on the dates of the U.S. sales as certified by the Federal Reserve Bank in accordance section 773A(a) of the Act.

Preliminary Results of Review

As a result of this review, we preliminarily determine that the following weighted-average dumping margin exists:

Stainless Steel Sheet and Strip in Coils
Producer/Manufacturer/Exporter | Weighted-Average Margin
TKAST | 0.00%

Pursuant to 19 CFR 351.224, the Department will disclose to any party to the proceeding, within ten days of publication of this notice, the calculations performed. Any interested party may request a hearing within 30 days of publication. Any hearing, if requested, will be held 37 days after the date of publication, or the first working day thereafter. Interested parties may submit case briefs and/or written comments no later than 30 days after the date of publication. Rebuttal briefs and rebuttals to written comments, limited to issues raised in such briefs or comments, may be filed no later than 35 days after the date of publication. The Department will publish the final results of this administrative review, which will include the results of its analysis of issues raised in any such written comments or at a hearing, within 120 days after the publication of this notice.

Upon issuance of the final results of review, the Department shall determine, and Customs shall assess, antidumping duties on all appropriate entries. The Department will issue appraisement instructions directly to Customs. The final results of this review shall be the basis for the assessment of antidumping duties on entries of merchandise covered by the results and for future deposits of estimated duties. For duty assessment purposes, we calculated an importer-specific assessment rate by dividing the total dumping margins calculated for the U.S. sales to the importer by the total entered value of these sales. This rate will be used for the assessment of antidumping duties on all entries of the subject merchandise by that importer during the POR.

Furthermore, the following deposit requirements will be effective upon completion of the final results of this administrative review for all shipments of the subject merchandise entered, or withdrawn from warehouse, for consumption on or after the publication of the final results of this administrative review, as provided in section 751(a)(1) of the Act: 1) the cash deposit rate for TKAST will be that established in the final results of this review; 2) for previously reviewed or investigated companies not covered in this review, the cash deposit rate will continue to be the company-specific rate published for the most recent period; 3) if the exporter is not a firm covered in this review, a prior review, or the original LTFV investigation, but the manufacturer is, the cash deposit rate will be the rate established in the most recent period for the manufacturer of the merchandise; and 4) if neither the exporter nor the manufacturer is a firm covered in this or any previous review conducted by the Department, the cash deposit rate will continue to be the “all other” rate established in the LTFV investigation, which was 39.69 percent. See Notice of Final Determination of Sales at Less Than Fair Value: Stainless Steel Plate in Coils from Italy, 64 FR 15458 (March 31, 1999).

This notice serves as a preliminary reminder to importers of their responsibility under regulation 19 CFR 351.402(f) to file a certificate regarding the reimbursement of antidumping duties prior to liquidation of the relevant entries during this review period. Failure to comply with this requirement could result in the Secretary's presumption that reimbursement of antidumping duties occurred and the subsequent assessment of double antidumping duties.

This administrative review and notice is published in accordance with sections 751(a)(1) and 777(i)(1) of the Act.

Dated: May 31, 2002
Faryar Shirzad,
Assistant Secretary for Import Administration.

[FR Doc. 02-14515 Filed 6-7-02; 8:45 am]

BILLING CODE 3510-DS-S